DEPARTMENT OF ENERGY

Agency Information Collection Extension

AGENCY: U.S. Department of Energy.

ACTION: Submission for Office of Management and Budget (OMB) review; comment request.

SUMMARY: The Department of Energy (DOE) has submitted an information collection request to the OMB for extension under the provisions of the Paperwork Reduction Act of 1995. The information collection requests a three-year extension of its State Energy Program, OMB Control Number 1910-5126. The proposed collection will collect information on the status of grantee activities, expenditures, and results, to ensure that program funds are being used appropriately, effectively and expeditiously (especially important for Recovery Act funds).

DATES: Comments regarding this collection must be received on or before August 2, 2010. If you anticipate that you will be submitting comments, but find it difficult to do so within the period of time allowed by this notice, please advise the OMB Desk Officer of your intention to make a submission as soon as possible. The Desk Officer may be telephoned at 202-395-4650.

ADDRESSES: Written comments should be sent to the DOE Desk Officer, Office of Information and Regulatory Affairs, Office of Management and Budget, New Executive Office Building, Room 10102, 735 17th Street, NW., Washington, DC 20503; and to Faith Lambert, U.S. Department of Energy, EE-K/Forrestal Building, 1000 Independence Ave., SW., Washington, DC 20585 or by fax at 202-287-7145, or by e-mail at faith.lambert@ee.doe.gov.

FOR FURTHER INFORMATION CONTACT: Faith Lambert, U.S. Department of Energy, EE-K/Forrestal Building, 1000 Independence Ave., SW., Washington, DC 20585 or by fax at 202-287-7145, or by e-mail at faith.lambert@ee.doe.gov.

SUPPLEMENTARY INFORMATION: This information collection request contains: (1) OMB No. 1910-5126; (2) Information Collection Request Title: State Energy Program; (3) Type of Review: Renewal; (4) Purpose: To collect information on the status of grantee activities, expenditures, and results, to ensure that program funds are being used appropriately, effectively and expeditiously (especially important for Recovery Act funds); (5) Annual Estimated Number of Respondents: 56; (6) Annual Estimated Number of Total Responses: 672; (7) Annual Estimated Number of Burden Hours: 1,344; (8) Annual Estimated Reporting and Recordkeeping Cost Burden:

Authority: Title V, Subtitle E of the Energy Independence and Security Act (EISA), Pub. L. 110-140.

Issued in Washington, DC on June 28, 2010.
Tobias Russell,
Acting Program Manager, Weatherization and Intergovernmental Program, Energy Efficiency and Renewable Energy.

[FR Doc. 2010-16111 Filed 6-29-10; 11:15 am]

BILLING CODE 6450-01-P